AGENCY FOR INTERNATIONAL DEVELOPMENT

Privacy Act of 1974, System of Records

AGENCY: United States Agency for International Development.

ACTION: Notice to delete systems of records.

SUMMARY: Pursuant to the Privacy Act of 1974 (U.S.C. 552a), as amended, the United States Agency for International Development (USAID) is deleting nine systems of records notices in its existing inventory.

DATES: This proposed action will be effective on October 1, 2007.

ADDRESSES: Comments may be submitted by any of the following methods:

eRulemaking Portal: http://www.regulations.gov. Follow the instructions on submitting comments.

E-mail: privacy@usaid.gov

Fax: (703) 666-1466.

Mail: Chief Privacy Officer, United States Agency for International Development, 1300 Pennsylvania Avenue, NW., Suite 2.12-003, Washington, DC 20523-2120.

FOR FURTHER INFORMATION CONTACT: Ms. Barbara English, Office of Human Resources, Policy, Planning and Information Division either by e-mail at benglish@usaid.gov or by phone on (202) 712-1913.

SUPPLEMENTARY INFORMATION: USAID has reviewed its Privacy Act systems of records. As a result of this review, USAID is deleting nine systems of records notices in its existing inventory. All nine systems being deleted are covered under government-wide systems of records. The specific deletions are set forth below.

Dated: August 20, 2007.
Philip M. Heneghan,
Chief Privacy Officer, USAID.

System Name:

AID-1, Foreign Service Employee Personnel Records System.

Reason: The records contained in this system of records are covered by OPM/GOVT-1 (General Personnel Records), a government-wide system of record.

System Name:

AID-2, Civil Service Employee Office Personnel Records.

Reason: The records contained in this system of records are covered by OPM/GOVT-1 (General Personnel Records), a government-wide system of record.

System Name:

AID-6, Recruiting, Examining, Placement and Employee Records.

Reason: The records contained in this system of records are covered by OPM/GOVT-5 (Recruiting, Examining, Placement and Employee Records), a government-wide system of record.

System Name:

AID-7, Foreign Service Personnel Evaluation Records.

Reason: The records contained in this system of records are covered by OPM/GOVT-2 (Employee Performance File System Records), a government-wide system of record.

System Name:

AID-11, Employee Conduct and Discipline Records.

Reason: The records contained in this system of records are covered by OPM/GOVT-3 (Adverse Actions and Actions Based on Unacceptable Performance), a government-wide system of record.

System Name:

AID-12, Executive Assignment Records.

Reason: The records contained in this system of records are covered by OPM/GOVT-1 (General Personnel Records), a government-wide system of record.

System Name:

AID-13, Orientation and Training Records.

Reason: The records contained in this system of records are covered by OPM/GOVT-1 (General Personnel Records), a government-wide system of record.

System Name:

AID-14, Awards and Incentive Records.

Reason: The records contained in this system of records are covered by OPM/GOVT-2 (Employee Performance File System Records), a government-wide system of record.

System Name:

AID-24, Emergency Case File.

Reason: The records contained in this system of records are covered by OPM/GOVT-1 (General Personnel Records), a government-wide system of record.

[FR Doc. E7-17180 Filed 8-29-07; 8:45 am]

BILLING CODE 6116-01-P